DEPARTMENT OF ENERGY

Federal Energy Regulatory Commission

[Docket No. RP00-226-000]

Mississippi Canyon Gas Pipeline, LLC, Notice of Proposed Changes in FERC Gas Tariff

April 5, 2000.

Take notice that on March 31, 2000, Mississippi Canyon Gas Pipeline, LLC (MCGP) tendered for filing as part of its FERC Gas Tariff, First Revised Volume No. 1, the following tariff sheets, with a proposed effective date of May 1, 2000:

Second Revised Sheet No. 27

Original Sheet No. 27A

MCGP states that the purpose of this filing is for MCGP to obtain from its FT-2 shippers on an annual basis an updated production profile. This will enable MCGP to better utilize its existing capacity and to determine when new capacity should be added.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8909 Filed 4-10-00; 8:45 am]

BILLING CODE 6717-01-M